DEPARTMENT OF COMMERCE

International Trade Administration

[C-533-844]

Certain Lined Paper Products From India: Preliminary Results of Countervailing Duty Administrative Review; Calendar Year 2010

AGENCY: Import Administration, International Trade Administration, Department of Commerce.

SUMMARY: The Department of Commerce (the Department) is conducting an administrative review of the countervailing duty order on certain lined paper products from India. The period of review (POR) is January 1, 2010, through December 31, 2010, and the review covers one producer/exporter of the subject merchandise, AR. Printing & Packaging India Pvt. Ltd. (AR Printing). We have preliminarily determined that AR Printing received countervailable subsidies during the POR.

DATES: Effective Date: October 11, 2012.

FOR FURTHER INFORMATION CONTACT: John Conniff, AD/CVD Operations, Office 3, Import Administration, International Trade Administration, U.S. Department of Commerce, 14th Street and Constitution Avenue NW., Washington, DC 20230; telephone (202) 482-1009.

Scope of the Order

The merchandise subject to the order is certain lined paper products. The products are currently classifiable under the Harmonized Tariff Schedule of the United States (HTSUS) item numbers: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description, available in the Lined Paper Order, remains dispositive.¹

¹ Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Lined Paper Order).

Methodology

The Department has conducted this review in accordance with section 751(a)(1)(A) of the Tariff Act of 1930, as amended (the Act). For each of the subsidy programs found countervailable, we preliminarily determine that there is a subsidy, i.e., a government-provided financial contribution that gives rise to a benefit to the recipient, and that the subsidy is specific. See sections 771(5)(B) and (D) of the Act regarding financial contribution; section 771(5)(E) of the Act regarding benefit; and, section 771(5A) of the Act regarding specificity. In making these findings, we have relied, in part, on facts available and because one or more respondents did not act to the best of their ability to respond to the Department's requests for information, we have drawn an adverse inference in selecting from among the facts otherwise available. See sections 776(a) and (b) of the Act. Finally, the Department was not able to make a preliminary determination of countervailability for certain programs because it requires additional information. We intend to seek that information prior to our final results.

For a full description of the methodology underlying our conclusions, please see “Decision Memorandum for Preliminary Results for the Countervailing Duty Administrative Review of Certain Lined Paper Products from India,” (Preliminary Decision Memorandum) from Christian Marsh, Deputy Assistant Secretary for Antidumping and Countervailing Duty Operations to Paul Piquado, Assistant Secretary for Import Administration, dated concurrently with these results and hereby adopted by this notice. The Preliminary Decision Memorandum is a public document and is on file electronically via Import Administration's Antidumping and Countervailing Duty Centralized Electronic Service System (IA ACCESS). IA ACCESS is available to registered users at http://iaaccess.trade.gov and in the Central Records Unit (CRU), room 7046 of the main Department of Commerce building. In addition, a complete version of the Preliminary Decision Memorandum can be accessed directly on the Internet at http://www.trade.gov/ia/. The signed Preliminary Decision Memorandum and the electronic versions of the Preliminary Decision Memorandum are identical in content.

Preliminary Results of Review

The Department has determined that the following preliminary net subsidy rates exist for the period January 1, 2010, through, December 31, 2010:

Assessment Rate
Company | Net subsidy rate
AR. Printing & Packaging India Pvt. Ltd. (AR Printing) | 73.51 percent ad valorem.

Cash Deposit Rate
Company | Net subsidy rate
AR. Printing & Packaging India Pvt. Ltd. (AR Printing) | 68.03 percent ad valorem.

Assessment and Cash Deposit Requirements

The Department intends to issue assessment instructions to U.S. Customs and Border Protection (CBP) 15 days after the date of publication of the final results of this review. We will instruct CBP to collect cash deposits for the respondent at the countervailing duty rate indicated above of the f.o.b. invoice price on all shipments of subject merchandise entered, or withdrawn from warehouse, for consumption on or after the date of publication of the final results of this review. We will also instruct CBP to continue to collect cash deposits for non-reviewed companies at the most recent company-specific or country-wide rate applicable to the company. These deposit requirements, when imposed, shall remain in effect until further notice.

Disclosure and Public Comment

The Department will disclose to parties to this proceeding the calculations performed in reaching the preliminary results within five days of the date of publication of these preliminary results.² Interested parties may submit written comments (case briefs) within 30 days of publication of the preliminary results and rebuttal comments (rebuttal briefs) within five days after the time limit for filing case briefs.³ Pursuant to 19 CFR 351.309(d)(2), rebuttal briefs must be limited to issues raised in the case briefs. Parties who submit arguments are requested to submit with the argument: (1) A statement of the issue; (2) a brief summary of the argument; and (3) a table of authorities.

² See 19 CFR 351.224(b).

³ See 19 CFR 351.309(c)(1)(ii) and 351.309(d)(1).

Interested parties, who wish to request a hearing, or to participate if one is requested, must submit a written request to the Assistant Secretary for Import Administration, U.S. Department of Commerce, filed electronically using Import Administration's Antidumping and Countervailing Duty Centralized Electronic Service System (IA ACCESS). An electronically filed document must be received successfully in its entirety by the Department's electronic records system, IA ACCESS, by 5 p.m. Eastern Standard Time within 30 days after the date of publication of this notice.⁴ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.⁵ Parties should confirm by telephone the date, time, and location of the hearing.

⁴ See 19 CFR 351.310(c).

⁵ See 19 CFR 351.310.

Unless the deadline is extended pursuant to section 751(a)(2)(B)(iv) of the Act, the Department will issue the final results of this administrative review, including the results of our analysis of the issues raised by the parties in their comments, within 120 days after issuance of these preliminary results.

These preliminary results of review are issued and published in accordance with sections 751(a)(1) and 777(i)(1) of the Act and 19 CFR 351.221(b)(4).

Dated: October 1, 2012.
Paul Piquado,
Assistant Secretary for Import Administration.

Appendix

Application of Adverse Facts Available (AFA)—AR Printing

Analysis of Programs

A. Programs Preliminarily Determined to be Countervailable

1. Pre- and Post-Shipment Export Financing

2. Export Promotion of Capital Goods Scheme (EPCGS)

3. Export Oriented Units (EOU) Reimbursement of Central Sales Tax (CST) Paid on Materials Procured Domestically

4. Export Oriented Units Duty-Free Import of Capital Goods and Raw Materials

5. Market Development Assistance (MDA)

6. Market Access Initiative (MAI)

7. Status Certificate Program

8. Income Deduction Program (80IB Tax Program)

9. Duty Entitlement Passbook Scheme (DEPS)

10. Advance Authorization Program (AAP)

11. Export Processing Zones (Renamed Special Economic Zones)

12. Target Plus Scheme (TPS)

B. Programs Preliminarily Determined to Constitute a Program-Wide Change

1. Income Tax Exemptions Under Section 10A

2. Income Tax Exemptions Under Section 10B

C. Programs Preliminarily Determined to be Terminated

1. Duty Free Replenishment Certificate (DFRC) Program

D. Programs Previously Determined to be Terminated

1. Exemption of Export Credit from Interest Taxes

2. Income Tax Exemptions Under 80 HHC

E. Programs for Which the Department Requires Additional Information

[FR Doc. 2012-24815 Filed 10-10-12; 8:45 am]

BILLING CODE 3510-DS-P